DEPARTMENT OF THE INTERIOR

National Park Service

[NPS-WASO-NAGPRA-NPS0032000; PPWOCRADN0-PCU00RP14.R50000]

Notice of Inventory Completion: Princeton University, Princeton, NJ

AGENCY: National Park Service, Interior.

ACTION: Notice.

SUMMARY: Princeton University has completed an inventory of an associated funerary object, in consultation with the appropriate Indian Tribes or Native Hawaiian organizations, and has determined that there is a cultural affiliation between the associated funerary object and present-day Indian Tribes or Native Hawaiian organizations and a lineal descendant. Lineal descendants or representatives of any Indian Tribe or Native Hawaiian organization not identified in this notice that wish to request transfer of control of the associated funerary object should submit a written request to Princeton University. If no additional requestors come forward, transfer of control of the associated funerary object to the lineal descendant, Indian Tribes, or Native Hawaiian organizations stated in this notice may proceed.

DATES: Lineal descendants or representatives of any Indian Tribe or Native Hawaiian organization not identified in this notice that wish to request transfer of control of the associated funerary object should submit a written request with information in support of the request to Princeton University at the address in this notice by June 25, 2021.

ADDRESSES: Bryan R. Just, Princeton University Art Museum, Princeton, NJ 08544, telephone (609) 258-8805, email bjust@princeton.edu.

SUPPLEMENTARY INFORMATION: Notice is here given in accordance with the Native American Graves Protection and Repatriation Act (NAGPRA), 25 U.S.C. 3003, of the completion of an inventory of an associated funerary object under the control of Princeton University, Princeton, NJ. The associated funerary object was removed from Old Stickeen, Wrangell, AK.

This notice is published as part of the National Park Service's administrative responsibilities under NAGPRA, 25 U.S.C. 3003(d)(3). The determinations in this notice are the sole responsibility of the museum, institution, or Federal agency that has control of the Native associated funerary object. The National Park Service is not responsible for the determinations in this notice.

Consultation

A detailed assessment of the associated funerary object was made by Princeton University professional staff in consultation with representatives of the Central Council of the Tlingit & Haida Indian Tribes. Although an invitation to consult was extended to a lineal descendant, Luella Knapp, the coronavirus pandemic impeded this effort to consult.

History and Description of the Associated Funerary Object

In 1879, Sheldon Jackson removed a carved wooden mortuary pole from Old Stickeen, Wrangell, AK. The mortuary pole is known by the Tlingit as the Kadashan mortuary pole (PU 5210). John Muir witnessed the removal of the pole and reported on it in his book Travels in Alaska. Sheldon Jackson was a member of the Presbyterian Missions in Alaska and an alumnus of the Princeton Theological Seminary. Between 1879 and 1882, Jackson made donations to the Princeton Theological Seminary that included the Kadashan mortuary pole. In 1882, the pole was transferred to Princeton University's E.M. Museum of Natural History. The backside of the pole contains a niche that would have contained human remains. According to the Central Council of the Tlingit & Haida Indian Tribes, Luella Knapp is the great granddaughter of Chief Kadashan and the caretaker of this mortuary pole. Her mother, Carol Feller Brady, was the daughter of Elizabeth Kadashan James, who in turn was the daughter of Chief John Kadashan.

Determinations Made by Princeton University

Officials of Princeton University have determined that:

• Pursuant to 25 U.S.C. 3001(3)(A), the one object described in this notice is reasonably believed to have been made exclusively to contain human remains.

• Pursuant to 25 U.S.C. 3001(1), Luella Knapp is the lineal descendant of the individual whose remains were intered in the mortuary pole.

• Pursuant to 25 U.S.C. 3001(2), there is a relationship of shared group identity that can be reasonably traced between the associated funerary object and the Central Council of the Tlingit & Haida Indian Tribes.

Additional Requestors and Disposition

Lineal descendants or representatives of any Indian Tribe or Native Hawaiian organization not identified in this notice that wish to request transfer of control of the associated funerary object should submit a written request with information in support of the request to Bryan R. Just, Princeton University Art Museum, Princeton, NJ 08544, telephone (609) 258-5013, email bjust@princeton.edu, by June 25, 2021. After that date, if no additional requestors have come forward, transfer of control of the associated funerary object to Luella Knapp and the Central Council of the Tilingit & Haida Indian Tribes may proceed (with priority given in the order listed).

Princeton University is responsible for notifying Luella Knapp and the Central Council of the Tlingit and Haida Indian Tribes of Alaska that this notice has been published.

Dated: May 17, 2021.
Melanie O'Brien,
Manager, National NAGPRA Program.

[FR Doc. 2021-11117 Filed 5-25-21; 8:45 am]

BILLING CODE 4312-52-P